DEPARTMENT OF TRANSPORTATION

National Highway Traffic Safety Administration

[Docket No. NHTSA-2016-0047]

Denial of Motor Vehicle Defect Petition

AGENCY: National Highway Traffic Safety Administration (NHTSA), Department of Transportation.

ACTION: Denial of petition for a defect investigation.

SUMMARY: This notice sets forth the reasons for the denial of a petition submitted to NHTSA under 49 U.S.C. 30162, requesting that the agency commence a proceeding to determine the existence of a defect related to motor vehicle safety in 2015 Volvo VNL 780 vehicles. After a review of the petition and other information, NHTSA has concluded that further expenditure of the agency's investigative resources on the issues raised by the petition does not appear warranted. The agency accordingly has denied the petition. The petition is hereinafter identified as DP15-006.

FOR FURTHER INFORMATION CONTACT: Mr. Nate Seymour, Medium & Heavy Duty Vehicle Division, Office of Defects Investigation (ODI), NHTSA, 1200 New Jersey Ave. SE., Washington, DC 20590. Telephone: (202) 366-2069.

SUPPLEMENTARY INFORMATION: By letter dated August 7, 2015, Mr. Albert Cusson and Nancy Younger-Cusson wrote to NHTSA requesting that the agency investigate the issues they previously identified in vehicle owner questionnaires (VOQ) 10701592 and 10747593 filed with the Agency. While the Petitioner's letter did not comply precisely with the requirements for petitions found in 49 CFR 552.4, the Agency is treating it as a petition in accordance with the regulation.

ODI understands these issues to include: Cab sway, cab alignment/bottoming out, and loss of vehicle control due to false triggering of the advanced vehicle safety systems. NHTSA has reviewed the material provided by the petitioners and other pertinent data that the agency gathered as well as test drove the petitioners' vehicle. The results of this review and NHTSA's analysis of the petition's merit is set forth in the DP15-006 Evaluation Report, appearing in the public docket referenced in the heading of this notice.

For the reasons presented in the Evaluation Report, it is unlikely that an order concerning notification and remedy of a safety-related defect would be issued as a result of granting Mr. Albert Cusson and Nancy Younger-Cusson's request. Therefore, in review of the need to allocate and prioritize NHTSA's investigative resources, an investigation on the issues raised by the petition does not appear to be warranted. Therefore, the petition is denied.

Authority: 49 U.S.C. 30162(d); delegations of authority at CFR 1.95 and 501.8.

Gregory K. Rea,
Associate Administrator for Enforcement.

[FR Doc. 2016-08497 Filed 4-20-16; 8:45 am]

BILLING CODE 4910-59-P